DEPARTMENT OF AGRICULTURE

Farm Service Agency

7 CFR Part 718

Commodity Credit Corporation

7 CFR Part 1412

RIN 0560-AI45

[Docket ID FSA-2019-0008]

Agriculture Risk Coverage and Price Loss Coverage Programs; Correction

AGENCY: Commodity Credit Corporation and Farm Service Agency, USDA.

ACTION: Final rule; correction and correcting amendment.

SUMMARY: The Commodity Credit Corporation (CCC) is correcting a final rule that was published in the Federal Register on September 3, 2019, which revised the Agriculture Risk Coverage (ARC) and Price Loss Coverage (PLC) Programs. That document inadvertently failed to include the relevant counties in Nebraska that have been established as having a history of double-cropping covered commodities or peanuts with fruits, vegetables, or wild rice and incorrectly listed the previous Regulation Identifier Number (RIN).

DATES: Effective: October 8, 2019.

FOR FURTHER INFORMATION CONTACT: Mary Ann Ball; telephone: (202) 720-4283, email address: maryann.ball@usda.gov. Persons with disabilities who require alternative means for communication should contact the USDA Target Center at (202) 720-2600 (voice only).

SUPPLEMENTARY INFORMATION:

Correction to Preamble

In the published final rule beginning on page 45877, in the 3rd column, in the Federal Register of Monday, September 3, 2019 (84 FR 45877-45895), correct the “RIN” heading to read: RIN 0560-AI45.

Correcting Amendment to Regulations

In addition, the final rule inadvertently omitted the list of counties for Nebraska in 7 CFR 1412.46(f). The listing of counties in § 1412.46(f) specifies which counties have been determined to be regions having a history of double-cropping covered commodities or peanuts with fruits, vegetables, or wild rice. The FSA State committees establish the counties as regions within their respective States. During the development of the final rule, the list of counties for Nebraska was intended to be added as: Box Butte, Dawes-North Sioux, Morrill, and Sheridan. Instead, the final rule did not list any counties in Nebraska. This correction adds the list of Nebraska counties.

List of Subjects in 7 CFR Part 1412

Cotton, Feed grains, Oilseeds, Peanuts, Price support programs, Reporting and recordkeeping requirements, Rice, Soil conservation, Wheat.

For the reasons discussed above, CCC corrects 7 CFR part 1412 as follows:

PART 1412—AGRICULTURE RISK COVERAGE, PRICE LOSS COVERAGE, AND COTTON TRANSITION ASSISTANCE PROGRAMS

1. The authority citation for part 1412 continues to read as follows:

Authority: 7 U.S.C. 1508b, 7911-7912, 7916, 8702, 8711-8712, 8751-8752, and 15 U.S.C. 714b and 714c.

Subpart D—ARC and PLC Contract Terms and Enrollment Provisions for Covered Commodities

2. In § 1412.46:

a. Revise paragraph (f)(28).

b. In paragraph (g), remove the cross-reference “paragraph (h)” and add the cross-reference “paragraph (i)” in its place.

The revision reads as follows:

§ 1412.46 Planting flexibility.

* * * * *

(f) * * *

(28) Nebraska. Box Butte, Dawes-North Sioux, Morrill, and Sheridan.

* * * * *

Robert Stephenson,
Executive Vice President, Commodity Credit Corporation.
Richard Fordyce,
Administrator, Farm Service Agency.

[FR Doc. 2019-21604 Filed 10-7-19; 8:45 am]

BILLING CODE 3410-05-P